DEPARTMENT OF DEFENSE

Defense Acquisition Regulations System

[Docket No. DARS-2014-0022]

Defense Federal Acquisition Regulation Supplement Acquisition of Items for Which Federal Prison Industries has a Significant Market Share

AGENCY: Department of Defense.

ACTION: Notice; correction.

SUMMARY: This document corrects the effective dates in a notice published in the Federal Register on March 19, 2014, regarding the annual list of product categories for which the Federal Prison Industries' share of the DoD Market is greater than five percent. The new effective date is March 26, 2014.

FOR FURTHER INFORMATION CONTACT: Sheila Harris, telephone 703-614-1333.

Correction

In the notice published on March 19, 2014, at 79 FR 15322, make the following corrections in the DATES and BACKGROUND sections of the notice by removing the effective date of “April 5, 2014” and adding “March 26, 2014” in its place.

Manuel Quinones,
Editor, Defense Acquisition Regulations System.

[FR Doc. 2014-06535 Filed 3-21-14; 8:45 am]

BILLING CODE 5001-06-P